DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of persons and a vessel that have been placed on OFAC's Specially Designated Nationals and Blocked Persons List (SDN List) based on OFAC's determination that one or more applicable legal criteria were satisfied. All property and interests in property subject to U.S. jurisdiction of these persons and vessel are blocked, and U.S. persons are generally prohibited from engaging in transactions with them.

DATES: This action was issued on February 8, 2024. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On February 8, 2024, OFAC determined that the property and interests in property subject to U.S. jurisdiction of the following persons are blocked under the relevant sanctions authority listed below.

Entities

1. NS LEADER SHIPPING INCORPORATED, 80 Broad Street, Monrovia, Liberia; Organization Established Date 12 Oct 2006; Identification Number IMO 5305560; Registration Number C-109156 (Liberia) [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

2. OIL TANKERS SCF MGMT FZCO, Unit 27610-001, Building A1, IFZA Business Park, DDP, Dubai Silicon Oasis, Dubai, United Arab Emirates; Identification Number IMO 6396404 [RUSSIA-EO14024].

Designated pursuant to section 1(a)(i) of Executive Order 14024 of April 15, 2021 for operating or having operated in the marine sector of the Russian Federation economy.

3. TALASSA SHIPPING DMCC, Dubai, United Arab Emirates; Organization Established Date 07 Jul 2022; License DMCC-852505 (United Arab Emirates); Registration Number 193984 (United Arab Emirates); Economic Register Number (CBLS) 11923170 (United Arab Emirates) [RUSSIA-EO14024].

Designated pursuant to section 1(a)(i) of Executive Order 14024 of April 15, 2021 for operating or having operated in the marine sector of the Russian Federation economy.

4. ZEENIT SUPPLY AND TRADING DMCC (a.k.a. ZEENIT SUPPLY & TRADING DMCC), Dubai, United Arab Emirates; Organization Established Date 15 Jul 2022; License DMCC-853123 (United Arab Emirates); Registration Number 194028 (United Arab Emirates); Economic Register Number (CBLS) 11923207 (United Arab Emirates) [RUSSIA-EO14024].

Designated pursuant to section 1(a)(i) of Executive Order 14024 of April 15, 2021 for operating or having operated in the marine sector of the Russian Federation economy.

On February 8, 2024, OFAC also identified the following vessel as property in which a blocked person has an interest, under the relevant sanctions authority listed below.

Vessel

1. NS LEADER (A8LU7) Crude Oil Tanker Gabon flag; Identification Number IMO 9339301; MMSI 636013272 (vessel) [RUSSIA-EO14024] (Linked To: NS LEADER SHIPPING INCORPORATED).

Identified as property in which NS Leader Shipping Incorporated, a person whose property and interests in property are blocked pursuant to E.O. 14024, has an interest.

Lisa M. Palluconi,
Acting Director, Office of Foreign Assets Control.

[FR Doc. 2025-13215 Filed 7-14-25; 8:45 am]

BILLING CODE 4810-AL-P